NUCLEAR REGULATORY COMMISSION

Sunshine Act; Notice of Meetings

Agency Holding the Meetings: Nuclear Regulatory Commission.

Date: Week of January 4, 2010.

Place: Commissioners' Conference Room, 11555 Rockville Pike, Rockville, Maryland.

Status: Public and Closed.

Additional Items To Be Considered:

Week of January 4, 2010

Thursday, January 7, 2010

12:15 p.m. Affirmation Session (Public Meeting) (Tentative):

c. South Carolina Electric and Gas Co. and South Carolina Public Service Authority (also Referred to as Santee Cooper) (Virgil C. Summer Nuclear Station, Units 2 & 3), LBP-09-2 (Ruling on Standing and Contention Admissibility) (Tentative)

d. Progress Energy Florida, Inc. (Combined License Application for Levy County Nuclear Power Plant, Units 1 and 2), LBP-09-10 (Tentative)

e. Detroit Edison Co. (Fermi Power Plant Independent Spent Fuel Storage Installation), LBP-09-20 (Aug. 21, 2009), Docket No. 72-72-EA. (Tentative)

f. Southern Nuclear Operating Co. (Early Site Permit for Vogtle ESP Site), Docket No. 52-011-ESP, Petition for Review of LBP-09-7 (Tentative)

g. Tennessee Valley Authority (Bellefonte Nuclear Power Plant Units 1 and 2) (Statutory Authority to Reinstate Construction Permits). (Tentative)

* * * * *

The NRC Commission Meeting Schedule can be found on the Internet at: http://www.nrc.gov/about-nrc/policy-making/schedule.html.

* * * * *

The NRC provides reasonable accommodation to individuals with disabilities where appropriate. If you need a reasonable accommodation to participate in these public meetings, or need this meeting notice or the transcript or other information from the public meetings in another format (e.g. braille, large print), please notify Angela Bolduc, Chief, Employee/Labor Relations and Work Life Branch, at 301-492-2230, TDD: 301-415-2100, or by e-mail at angela.bolduc@nrc.gov. Determinations on requests for reasonable accommodation will be made on a case-by-case basis.

* * * * *

This notice is distributed electronically to subscribers. If you no longer wish to receive it, or would like to be added to the distribution, please contact the Office of the Secretary, Washington, DC 20555 (301-415-1969), or send an e-mail to darlene.wright@nrc.gov.

Dated: December 31, 2009
Kenneth R. Hart,
Office of the Secretary.

[FR Doc. 2010-8 Filed 1-4-10; 4:15 pm]

BILLING CODE 7590-01-P